DEPARTMENT OF EDUCATION

Applications for New Awards; Technical Assistance and Dissemination To Improve Services and Results for Children With Disabilities—State Technical Assistance Projects To Improve Services and Results for Children Who Are Deaf-Blind and National Technical Assistance and Dissemination Center for Children Who Are Deaf-Blind

AGENCY: Office of Special Education and Rehabilitative Services, Department of Education.

ACTION: Notice.

SUMMARY: The Department of Education is issuing a notice inviting applications for new awards for fiscal year (FY) 2018 for Technical Assistance and Dissemination to Improve Services and Results for Children With Disabilities—State Technical Assistance Projects to Improve Services and Results for Children who are Deaf-Blind and National Technical Assistance and Dissemination Center for Children who are Deaf-Blind, Catalog of Federal Domestic Assistance (CFDA) number 84.326T.

DATES:

Applications Available: August 21, 2018.

Deadline for Transmittal of Applications: September 20, 2018.

ADDRESSES: For the addresses for obtaining and submitting an application, please refer to our Common Instructions for Applicants to Department of Education Discretionary Grant Programs, published in the Federal Register on February 12, 2018 (83 FR 6003) and available at www.gpo.gov/fdsys/pkg/FR-2018-02-12/pdf/2018-02558.pdf.

FOR FURTHER INFORMATION CONTACT: Jo Ann McCann, U.S. Department of Education, 400 Maryland Avenue SW., Room 5162, Potomac Center Plaza, Washington, DC 20202-5076. Telephone: (202) 245-7434, Email: Jo.Ann.McCann.ed.gov.

If you use a telecommunications device for the deaf (TDD) or a text telephone (TTY), call the Federal Relay Service (FRS), toll free, at 1-800-877-8339.

SUPPLEMENTARY INFORMATION:

Full Text of Announcement

I. Funding Opportunity Description

Purpose of Program: Two Department of Education (Department) programs fund this competition: the Technical Assistance and Dissemination to Improve Services and Results for Children with Disabilities (TA&D) program and the Personnel Development to Improve Services and Results for Children with Disabilities (PD) program.

The purpose of the TA&D program is to promote academic achievement and to improve results for children with disabilities by providing technical assistance (TA), supporting model demonstration projects, disseminating useful information, and implementing activities that are supported by scientifically based research.

The purposes of the PD program are to: (1) Help address State-identified needs for personnel—in special education, related services, early intervention, and regular education—to work with children with disabilities; and (2) ensure that those personnel have the skills and knowledge—derived from practices that have been determined through research and experience to be successful—that are needed to serve those children.

Priority: In accordance with 34 CFR 75.105(b)(2)(v), this priority is from allowable activities specified in the statute (see sections 662(c)(2), 663(c)(8)(A) and (C), and 681(d) of the Individuals with Disabilities Education Act (IDEA) (20 U.S.C. 1462, 1463, and 1481)).

Absolute Priority: For FY 2018 and any subsequent year in which we make awards from the list of unfunded applications from this competition, this priority is an absolute priority. Under 34 CFR 75.105(c)(3), we consider only applications that meet this priority.

This priority is:

State Technical Assistance Projects to Improve Services and Results for Children who are Deaf-Blind and a National Technical Assistance and Dissemination Center for Children who are Deaf-Blind.

Background:

The purpose of this priority is to establish and operate State Technical Assistance Projects to Improve Services and Results for Children Who Are Deaf-Blind and a National Technical Assistance and Dissemination Center for Children Who Are Deaf-Blind that will provide TA and support to the State projects.

The State Technical Assistance Projects to Improve Services and Results for Children who are Deaf-Blind (State Deaf-Blind Projects) will help State educational agencies (SEAs), Part C lead agencies (LAs), local educational agencies (LEAs)—including charter school LEAs, early intervention services (EIS) providers, teachers, service providers, and families to address the educational, related services, transitional, and early intervention needs of children who are deaf-blind.¹ The State Deaf-Blind Projects are designed to increase access to, and progress in, the general education curriculum and grade-level academic content standards for children who are deaf-blind and improve their communication skills with a goal of supporting lifelong learning, including postsecondary education and employment readiness.

¹ For purposes of this notice, the term “children who are deaf-blind” refers to infants, toddlers, children, youth, and young adults (ages birth through 21) who are deaf-blind.

The National Technical Assistance and Dissemination Center for Children who are Deaf-Blind (National Center) will provide TA and support to the State Deaf-Blind Projects in addressing these needs. This support includes providing specialized TA, training, dissemination, and informational services to agencies and organizations, professionals, families, and others involved in providing services to children who are deaf-blind.

Children who are deaf-blind have complex needs and are among the most diverse groups of learners served under the IDEA. Approximately 90 percent of children who are deaf-blind also have additional physical, learning, or cognitive disabilities. As a result, children who are deaf-blind face a unique set of challenges not commonly faced by their peers with, and without, disabilities. Therefore, SEAs, LAs, LEAs, EIS providers, teachers, service providers, State TA providers, and families need significant support to address the intense educational, related services, transitional, and early intervention needs of children who are deaf-blind to ensure that these children are prepared for lifelong learning and successfully transition to postsecondary education or employment.

State Technical Assistance Projects To Improve Services and Results for Children Who Are Deaf-Blind

This priority will fund discretionary grants to establish and operate State Technical Assistance Projects to Improve Services and Results for Children Who are Deaf-Blind. For more than 20 years, the Office of Special Education Programs (OSEP) has supported State Deaf-Blind Projects to improve support to local schools and agencies within the States that are serving children who are deaf-blind and their families. The State Deaf-Blind Projects will work closely with SEAs, LAs, LEAs, EIS providers, teachers, service providers, and families to address the intense educational, related services, transitional, and early intervention needs of children who are deaf-blind to ensure that these children are prepared for lifelong learning and successfully transition to postsecondary education or employment. In partnership with the National Center, the targeted and intensive TA provided by State Deaf-Blind Projects will ensure that family members and caregivers, EIS providers, special and regular education teachers, and related services personnel have access to the specialized training and tools needed to support the educational and social success of children who are deaf-blind. In order to support the training and certification of trained paraprofessionals who are specifically trained to work with children who are deaf-blind, State Deaf-Blind Projects also will be encouraged to work with the National Center to utilize existing training modules (e.g., Open Hands Open Access) and paraprofessional evaluation systems.

National Technical Assistance and Dissemination Center for Children Who Are Deaf-Blind

This priority will also fund a cooperative agreement to establish and operate a National Technical Assistance and Dissemination Center for Children Who are Deaf-Blind. The National Center will work with the State Deaf-Blind Projects to ensure that family members and caregivers, EIS providers, special and regular education teachers, and related services personnel have access to the specialized training and tools needed to support the educational and social success of children who are deaf-blind.

The goals of this priority are to (1) expand upon a national TA network to improve outcomes for children who are deaf-blind; (2) expand the use of training modules to support personnel development of teachers and qualified personnel; (3) expand the body of knowledge and use of high-quality practices to facilitate emerging and developing literacy and numeracy for children who are deaf-blind; (4) facilitate increased parental involvement in the education and transition opportunities for children who are deaf-blind through providing networking opportunities for families, dissemination of knowledge, and engagement with deaf-blind family organizations; and (5) collaborate with the State Deaf-Blind Projects in collecting information to provide a State-by-State needs assessment, including disability and demographic information and trends, in order to ensure that children who are deaf-blind are identified early and receive appropriate services and supports. In addition, State Deaf-Blind Projects in States that utilize or plan to utilize certified paraprofessionals will collaborate with the National Center to (1) increase the number of certified paraprofessionals and qualified teachers within the State who have demonstrated skills to improve the classroom experience of children who are deaf-blind; and (2) increase the use of paraprofessional evaluation systems leading to increased availability of qualified paraprofessionals to support children who are deaf-blind.

This priority is consistent with the Secretary's Final Supplemental Priorities and Definitions for Discretionary Grant Programs, published in the Federal Register on March 2, 2018 (83 FR 9096) (Supplemental Priorities): Supplemental Priority 5—Meeting the Unique Needs of Students and Children With Disabilities and/or Those With Unique Gifts and Talents.

Priority:

For the purpose of this competition, we have separated the absolute priority into two focus areas: State Deaf-Blind Projects (Focus Area A) and a National Center (Focus Area B). Applicants must identify whether they are applying under Focus Area A, Focus Area B, or both.

Note: Each focus area will be reviewed and scored separately if an applicant is applying under both focus areas. As the program and application requirements for the two focus areas are different, applicants must ensure that they have met all applicable requirements.

Focus Area A: State Technical Assistance Projects to Improve Services and Results for Children Who Are Deaf-Blind.

Under Focus Area A, the Department will fund discretionary grants to establish and operate State Deaf-Blind Technical Assistance Projects (State Deaf-Blind Projects) to improve services and results for children who are deaf-blind. Grants under Focus Area A are available to support projects in all States, including the District of Columbia, Puerto Rico, the outlying areas and the freely associated States. A grant may be awarded to an entity to serve a single State or a multi-State consortium. Funds awarded under this priority may not be used to provide direct early intervention services under Part C of IDEA or direct special education and related services under Part B of IDEA.

State Deaf-Blind Projects funded under this priority must achieve, at a minimum, the following expected outcomes:

(a) Provide TA and training on improving outcomes to personnel who serve children who are deaf-blind;

(b) Increase early identification and referral of children who are deaf-blind for appropriate services and supports;

(c) Facilitate emerging and developing literacy and numeracy for children who are deaf-blind by promoting access to the general education curriculum and grade-level academic content standards through the use of high-quality practices;

(d) Continue and expand support to children who are deaf-blind and their families during the transition to postsecondary education or employment;

(e) Increase support to families to facilitate their involvement in the education and transition opportunities for children who are deaf-blind; and

(f) In collaboration with the National Center, collect information to provide a State-by-State needs assessment.

Also, State Deaf-Blind Projects in States that use, or plan to use, certified paraprofessionals will collaborate with the National Center to—

(a) Increase the number of certified paraprofessionals and qualified teachers within the State who have demonstrated skills to improve the educational, social, and communication outcomes and the classroom experience of children who are deaf-blind; and

(b) Increase the use of paraprofessional evaluation systems leading to increased availability of qualified paraprofessionals for children who are deaf-blind.

In addition to these programmatic requirements, to be considered for funding under Focus Area A of this priority, applicants must meet the application and administrative requirements in this priority, which are:

(a) Demonstrate, in the narrative section of the application under “Significance of the Project,” how the proposed project will—

(1) Provide EIS providers, special education teachers, regular education teachers, related services personnel, and SEA, LEA, LA, and EIS provider administrators with the training and information needed to develop and implement individualized supports to ensure that children who are deaf-blind have access to and progress in the general education curriculum and grade-level academic content standards, and have access to high-quality educational opportunities that lead to successful transitions to postsecondary education or employment; and

(2) In conjunction with State Parent Training and Information Centers (PTIs), ensure that family members and caregivers of children who are deaf-blind have the training and information needed to maintain and improve productive partnerships with service providers.

To address the requirements of paragraphs (1) and (2) of this section, the applicant must—

(i) Present applicable State, regional, or local data (and, in the case of an application for a consortium, data for each State that the consortium will serve) demonstrating training and information needs of EIS providers, special and regular education teachers, related services personnel, and family members and caregivers identified in paragraphs (1) and (2) of this section, taking into account the critical needs of the diverse deaf-blind population and the geographical distribution of children who are deaf-blind; and

(ii) Demonstrate knowledge of current educational issues and policy initiatives in educating children who are deaf-blind, including any State-specific policy initiatives and how the applicant will support their implementation; and

(3) Improve educational, social, and communication outcomes for children who are deaf-blind, and indicate the likely magnitude or importance of the outcomes.

(b) Demonstrate, in the narrative section of the application under “Quality of the Project Services,” how the proposed project will—

(1) Ensure equal access and treatment for members of groups that have traditionally been underrepresented based on race, color, national origin, gender, age, or disability. To meet this requirement, the applicant must describe how it will—

(i) Identify the needs of the intended recipients for TA and information;

(ii) Ensure that services meet the needs of the intended recipients of the grant and that any products are first approved by the OSEP project officer and then developed in coordination with the National Center;

(2) Achieve its goals, objectives, and intended outcomes. To meet this requirement, the applicant must provide measureable intended project outcomes;

(3) Be based on current research and make use of high-quality practices. To meet this requirement, the applicant must describe—

(i) The current research and high-quality practices on ensuring access to the general education curriculum, grade-level academic content standards, and high-quality educational opportunities that lead to successful transitions to postsecondary education or employment;

(ii) How the project will provide high-quality training and TA to the family members and caregivers of children who are deaf-blind and TA and professional development to practitioners identified in paragraph (a) of the application and administrative requirements in this section; and

(iii) The process the proposed project will use to incorporate current research and high-quality practices in the development and delivery of its products and services;

(4) Develop and provide services that are of sufficient quality, intensity, and duration to achieve the intended outcomes of the proposed project. To address this requirement, the applicant must describe—

(i) Its proposed approach to universal, general TA,² including the intended recipients of products and services;

² Within the context of State or a multi-State consortium of Deaf-Blind Projects, “universal, general TA” means TA and information provided to independent users through their own initiative resulting in minimal interaction with project staff and including one-time, invited or offered conference presentations by project staff. This category of TA also includes information or products, such as newsletters, guidebooks, or research syntheses, downloaded from the project's website by independent users. Brief communications by project staff with recipients, either by telephone or email, are also considered universal, general TA.

(ii) Its proposed approach to targeted, specialized TA,³ including the intended recipients of products and services; and

³ Within the context of State or a multi-State consortium of Deaf-Blind Projects, “targeted, specialized TA” means TA service based on needs common to multiple recipients and not extensively individualized. A relationship is established between the TA recipient and one or more project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(iii) Its proposed approach to intensive, sustained TA,⁴ including the intended recipients of products and services. To address this requirement, the applicant must describe—

⁴ Within the context of State or a multi-State consortium of Deaf-Blind Projects, “intensive, sustained TA” means TA services often provided on-site and requiring a stable, ongoing relationship between the project staff and the TA recipient. “TA services” are defined as a negotiated series of activities designed to reach a valued outcome. This category of TA should result in changes to policy, program, practice, or operations that support increased recipient capacity and improved outcomes at one or more systems levels.

(A) Its proposed approach to collaborate with SEAs, LEAs, LAs, EIS providers, PTIs, or other relevant entities, as appropriate, to support project initiatives and to leverage their available resources, ability to build supports for families, and ability to provide TA and training to teachers, EIS providers, and other service providers;

(B) Its proposed plan for assisting LEAs and EIS providers to address the needs of children who are deaf-blind based on best practices and current research on effective training and professional development; and

(C) Its proposed plan for working with individuals and entities at each level of the education system (e.g., SEAs, LEAs, LAs, EIS providers, schools, and families) to ensure communication among the different groups and that there are systems in place to support the use of high-quality practices for educating children who are deaf-blind.

(6) Implement services in collaboration with the National Center to meet the TA objectives within the State(s) served. To address this requirement, the applicant must describe—

(i) How the proposed project will use technology to achieve the intended project outcomes;

(ii) With whom the proposed project will collaborate and the intended outcomes of this collaboration;

(iii) How the proposed project will use non-project resources to achieve the intended project outcomes; and

(iv) How the applicant will facilitate States' ability to use and benefit from the National Center's initiatives, products, and TA, including those initiatives that cross State boundaries.

(c) Demonstrate, in the narrative section of the application under “Quality of the Evaluation Plan,” how—

(1) The proposed project will collect and analyze data on specific and measurable goals, objectives, and outcomes of the project. To address this requirement, the applicant must describe—

(i) The proposed evaluation methodologies, including instruments, data collection methods, and possible analyses;

(ii) The proposed standards or targets for determining effectiveness; and

(iii) The proposed methods for collecting data on implementation supports and fidelity of implementation.

(2) The proposed project will use the evaluation results to examine the project's implementation strategies and the progress toward achieving intended outcomes; and

(3) The methods of evaluation will produce quantitative and qualitative data that demonstrate whether the project achieved the intended outcomes.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as appropriate; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients;

(4) The proposed project will benefit from a diversity of perspectives, including families, educators, TA providers, researchers, and policy makers, among others, in its development and operation;

(5) If applicable, the States within a consortium will receive appropriate services; and

(6) If applicable, the proposed project will ensure that the distribution of resources is equitable within a consortium.

(f) In the narrative under “Required Project Assurances” or appendices as directed, meet the following application requirements—

(1) Include, in Appendix A, charts and timelines, as applicable, to illustrate the management plan described in the narrative;

(2) Include, in the budget, attendance at the following:

(i) A one-day planning meeting preceding the OSEP-hosted project directors' conference held in Washington, DC, in coordination with the National Center and an annual planning meeting with the OSEP project officer and other relevant staff during each subsequent year of the project period;

(ii) A two and one-half day project directors' conference in Washington, DC, during each year of the project period; and

(3) If the project maintains a website, ensure that it will be of high quality, with an easy-to-navigate design, that meets government or industry-recognized standards for accessibility.

Note: States are invited to form consortia to apply for funding under Focus Area A of this priority in accordance with the Education Department General Administrative Regulations (EDGAR) in 34 CFR 75.127 to 75.129. A consortium may be comprised of any group of States.

Focus Area B: National Technical Assistance and Dissemination Center for Children Who Are Deaf-Blind.

The purpose of Focus Area B of this priority is to fund a cooperative agreement to establish and operate a National Technical Assistance and Dissemination Center for Children Who Are Deaf-Blind (National Center). The Center must achieve, at a minimum, the following expected outcomes:

(a) Increase the ability of State Deaf-Blind Projects to assist personnel in SEAs, LEAs, LAs, and EIS providers to use high-quality practices and products to improve outcomes for children who are deaf-blind;

(b) Increase assistance to State Deaf-Blind Projects in supporting families in order to facilitate family involvement in the education and transition opportunities for children who are deaf-blind;

(c) Increase collaboration between the OSEP-funded PTIs and State Deaf-Blind Projects to increase their ability to assist the families of children who are deaf-blind to support the development of self-advocacy;

(d) Increase early identification of children who are deaf-blind;

(e) In collaboration with State Deaf-Blind Projects, expand the use by SEAs, LAs and LEAs of paraprofessional evaluation systems (e.g., National Intervener Certification E-Portfolio) leading to increased availability of qualified paraprofessionals to support children who are deaf-blind;

(f) Increase ability of school-based personnel to meet State-identified competencies for educators serving children who are deaf-blind; and

(g) Promote access to, and progress in, the general education curriculum and grade-level academic content standards through the use of high-quality practices. The Center must also collect information to provide a State-by-State needs assessment, and develop and disseminate high-quality tools to State Deaf-Blind Projects and individuals and entities at each level of the education system to improve outcomes for children who are deaf-blind.

In addition to these programmatic requirements, to be considered for funding under this priority, applicants must meet the application and administrative requirements in this priority, which are:

(a) Demonstrate, in the narrative section of the application under “Significance of the Project,” how the proposed project will—

(1) Address the current and emerging needs of State Deaf-Blind Projects, SEAs, LEAs, LAs, EIS providers, and organizations serving children who are deaf-blind to ensure they have the training and information needed to implement and sustain high-quality, effective, and efficient systems that have the implementation supports in place to ensure children who are deaf-blind have access to and progress in the general education curriculum and grade-level academic content standards, and have access to high-quality educational opportunities that lead to successful transitions to postsecondary education or employment. To meet this requirement the applicant must—

(i) Present applicable data demonstrating current State capacity to deliver high-quality IDEA services for children who are deaf-blind, and ensure they have access to and progress in the general education curriculum and grade-level academic content standards, and have access to high-quality educational opportunities that lead to successful transitions to postsecondary education or employment;

(ii) Demonstrate knowledge of current issues and ongoing challenges in ensuring children who are deaf-blind have access to and progress in the general education curriculum and grade-level academic content standards, and have access to high-quality educational opportunities that lead to successful transitions to postsecondary education or employment; and

(iii) Present information about the current level of implementation and current capacity of SEAs, LEAs, LAs, and EIS providers to ensure that children who are deaf-blind have access to and progress in the general education curriculum and grade-level academic content standards, and have access to high-quality educational opportunities that lead to successful transitions to postsecondary education or employment.

(2) Improve educational outcomes for children who are deaf-blind, and indicate the likely magnitude or importance of the outcomes.

(b) Demonstrate, in the narrative section of the application under “Quality of the Project Services,” how the proposed project will—

(1) Ensure equal access and treatment to members of groups that have traditionally been underrepresented based on race, color, national origin, gender, age, or disability. To meet this requirement, the applicant must describe how it will—

(i) Identify the needs of the intended recipients for TA and information; and

(ii) Ensure that TA services and products meet the needs of the intended recipients of the grant;

(2) Achieve its goals, objectives, and intended outcomes. To meet this requirement, the applicant must provide—

(i) Measurable intended project outcomes; and

(ii) In Appendix A, the logic model (as defined in this notice) by which the proposed project will achieve its intended outcomes that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: www.osepideasthatwork.org/logicModel and www.osepideasthatwork.org/resources-grantees/program-areas/ta-ta/tad-project-logic-model-and-conceptual-framework.

(4) Be based on current research and make use of high-quality practices. To meet this requirement, the applicant must describe—

(i) The current research on the effectiveness of systems change efforts, capacity building, and inclusive practices that will inform the TA and related high-quality practices; and

(ii) The current research about adult learning principles and implementation science that will inform the proposed TA and products; and

(5) Develop products and provide services that are of high quality and sufficient intensity and duration to achieve the intended outcomes of the proposed project. To address this requirement, the applicant must describe—

(i) How it proposes to identify and develop the knowledge base on high-quality practices addressing the early intervention, related services, educational, transitional, and functional needs of children who are deaf-blind;

(ii) Its proposed approach to universal, general TA,⁵ which must identify the intended recipients of the products and services under this approach and should include, at minimum—

⁵ Within the context of the National Center, “universal, general TA” means TA and information provided to independent users through their own initiative, resulting in minimal interaction with TA center staff and including one-time, invited or offered conference presentations by TA center staff. This category of TA also includes information or products, such as newsletters, guidebooks, or research syntheses, downloaded from the TA center's website by independent users. Brief communications by TA center staff with recipients, either by telephone or email, are also considered universal, general TA.

(A) A plan for ensuring that State Deaf-Blind Projects, as well as SEAs, LEAs, LAs, and EIS providers, can easily access and use products and services developed by the proposed project; and

(B) A plan for increasing awareness and recognition at the national level of how children who are deaf-blind can benefit from high-quality practices addressing their early intervention, related services, educational, transitional, and functional needs.

(iii) Its proposed approach to targeted, specialized TA,⁶ which must identify—

⁶ Within the context of the National Center, “targeted, specialized TA” means TA services based on needs common to multiple recipients and not extensively individualized. A relationship is established between the TA recipient and one or more TA center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services under this approach;

(B) Its proposed approach to measure the readiness of State Deaf-Blind Projects to work with the proposed project, assessing, at a minimum, their current infrastructure, available resources, and ability to build capacity at the LEA and EIS program level;

(C) Its proposed plan for assisting State Deaf-Blind Projects to build professional development systems to support children who are deaf-blind; and

(D) Its proposed plan for working with individuals and entities at each level of the education system (e.g., SEAs, LEAs, LAs, EIS providers, schools, and families) to ensure that there are systems in place to support the use of high-quality practices for educating children with deaf-blindness;

(iv) Its proposed approach to intensive, sustained TA,⁷ which must identify—

⁷ Within the context of the National Center, “intensive, sustained TA” means TA services often provided on-site and requiring a stable, ongoing relationship between the TA center staff and the TA recipient. “TA services” are defined as negotiated series of activities designed to reach a valued outcome. This category of TA should result in changes to policy, program, practice, or operations that support increased recipient capacity or improved outcomes at one or more systems levels.

(A) The intended recipients, including the type and number of recipients, that will receive the products and services under this approach;

(B) Its proposed approach to measure the readiness of State Deaf-Blind Projects to work with the proposed project, including their commitment to the initiative, alignment of the initiative to their needs, current infrastructure, available resources, and ability to build capacity at the local district and EIS program level;

(C) Its proposed plan for assisting State Deaf-Blind Projects to build training systems that include professional development based on adult learning principles and coaching;

(D) The process by which the proposed project will collaborate with OSEP-funded centers (see www.osepideasthatwork.org/find-center-or-grant/find-a-center) and other federally funded TA centers to develop and implement a coordinated TA plan when they are involved in a State;

(E) The process by which the proposed project will ensure the use of effective TA practices and continuously evaluate the practices to improve the delivery of TA;

(6) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes.

(c) In the narrative section of the application under “Quality of the Evaluation Plan,” include an evaluation plan for the project as described in the following paragraphs. The evaluation plan must describe: measures of progress in implementation, including the criteria for determining the extent to which the project's products and services have met the goals for reaching the project's target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Program and Project Performance (CIP3),⁸ the project director, and the OSEP project officer on the following tasks:

⁸ The major tasks of CIP3 are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIP3 are expected to enhance individual project evaluation plans by providing expert and unbiased TA in designing the evaluations with due consideration of the project's budget. CIP3 does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., prepare evaluation questions about significant program processes and outcomes; develop quantitative or qualitative data collections that permit both the collection of progress data, including fidelity of implementation, as appropriate, and the assessment of project outcomes; and identify analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's evaluation (3+2 review) for continued funding described under the heading Fourth and Fifth Years of the Project; and

(C) Can be used to assist the project director and the OSEP project officer, with the assistance of CIP3, as needed, to specify the performance measures to be addressed in the project's Annual Performance Report;

(2) Cooperate with CIP3 staff in order to accomplish the tasks described in paragraph (1) of this section; and

(3) Dedicate sufficient funds in each budget year to cover the costs of carrying out the tasks described in paragraphs (1) and (2) of this section and implementing the evaluation plan.

(d) Demonstrate in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, doctoral and post-doctoral scholars, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting.

Note: Within 30 days of receipt of the award, a post-award teleconference must be held between the OSEP project officer and the grantee's project director or other authorized representative;

(ii) A two and one-half day project directors' conference in Washington, DC, during each year of the project period;

(iii) Four annual two-day trips to attend Department briefings, Department-sponsored conferences, and other meetings, as requested by OSEP; and

(iv) A one-day intensive 3+2 review meeting in Washington, DC, during the last half of the second year of the project period;

(3) Include, in the budget, a line item for an annual set-aside of five percent of the grant amount to support emerging needs that are consistent with the proposed project's intended outcomes, as those needs are identified in consultation with and approved by the OSEP project officer. With approval from the OSEP project officer, the project must reallocate any remaining funds from this annual set-aside no later than the end of the third quarter of each budget period;

(4) Maintain a high-quality website, with an easy to navigate design, that meets government or industry-recognized standards for accessibility; and

(5) Include, in Appendix A, an assurance to assist OSEP with the transfer of pertinent resources and products and to maintain the continuity of services to States during the transition to this new award period and at the end of this award period, as appropriate.

Fourth and Fifth Years of the Project:

In deciding whether to continue funding the project for the fourth and fifth years, the Secretary will consider the requirements of 34 CFR 75.253(a), as well as—

(a) The recommendation of a 3+2 review team consisting of experts selected by the Secretary. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Requirement:

This requirement is from the notice of final requirement for this program published elsewhere in this issue of the Federal Register.

This requirement is:

Allowable indirect costs.

A grantee under Focus Area A may recover the lesser of (a) its actual indirect costs as determined by the grantee's negotiated indirect cost rate agreement and (b) 10 percent of its modified total direct costs. If a grantee's allocable indirect costs exceed 10 percent of its modified total direct costs, the grantee may not recoup the excess by shifting the cost to other grants or contracts with the U.S. Government, unless specifically authorized by legislation. The grantee must use non-Federal revenue sources to pay for such unrecovered costs.⁹

⁹ The National Technical Assistance and Dissemination Center for Children Who Are Deaf-Blind (CFDA number 84.326T) (National Center) is not subject to this limitation on recovery of indirect costs.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1462, 1463 and 1481.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to institutions of higher education (IHEs) only.

II. Award Information

Type of Award: Discretionary grants (Focus Area A) and cooperative agreement (Focus Area B).

Estimated Available Funds: $11,600,000.

Contingent upon the availability of funds and the quality of applications, we may make additional awards in FY 2019 from the list of unfunded applicants from this competition.

Estimated Range of Awards: Focus Area A: See chart. Focus Area B: $2,100,000.

Estimated Average Size of Awards: Focus Area A: $176,000. Focus Area B: $2,100,000.

Maximum Award: Focus Area A: The following chart lists the maximum amount of funds for individual States and for a single budget period of 12 months. We will not make an award exceeding funding levels listed in this notice for individual States, or the combined funding levels listed in this notice for each State member of a consortium, for any single budget period of 12 months. A State may be served by only one supported project. In determining the maximum funding levels for each State, the Secretary considered, among other things, the following factors:

(1) The total number of children from birth through age 21 in the State.

(2) The number of people in poverty in the State.

(3) The previous funding levels.

(4) The maximum and minimum funding amounts.

FY 2018 Funding Levels by State for Focus Area A
Alabama | $166,115
Alaska | 128,365
Arizona | 202,901
Arkansas | 110,361
California | 575,000
Colorado | 157,744
Connecticut | 97,635
Delaware | 65,000
District of Columbia | 65,000
Florida | 434,432
Georgia | 318,872
Hawaii | 65,000
Idaho | 87,919
Illinois | 343,838
Indiana | 209,276
Iowa | 98,560
Kansas | 117,638
Kentucky | 150,359
Louisiana | 152,797
Maine | 65,000
Maryland | 159,571
Massachusetts | 151,993
Michigan | 277,384
Minnesota | 164,824
Mississippi | 120,638
Missouri | 186,755
Montana | 121,361
Nebraska | 83,096
Nevada | 112,911
New Hampshire | 65,000
New Jersey | 248,332
New Mexico | 107,917
New York | 545,625
North Carolina | 311,011
North Dakota | 78,000
Ohio | 300,219
Oklahoma | 135,957
Oregon | 122,163
Pacific ** | 92,000
Pennsylvania | 350,902
Puerto Rico | 65,000
Rhode Island | 65,000
South Carolina | 148,136
South Dakota | 99,365
Tennessee | 219,460
Texas | 575,000
Utah | 110,447
Vermont | 71,451
Virgin Islands | 30,000
Virginia | 236,230
Washington | 194,458
West Virginia | 91,987
Wisconsin | 167,994
Wyoming | 78,000
** The areas to be served by this award are the outlying areas of American Samoa, Guam, and the Commonwealth of the Northern Mariana Islands, as well as the freely associated States of the Republic of the Marshall Islands, the Federated States of Micronesia, and the Republic of Palau. An applicant for this award must propose to serve all of these areas.

Focus Area B: We will not make an award exceeding 2,100,000 for any single budget period of 12 months.

Note: The Assistant Secretary for Special Education and Rehabilitative Services may change the maximum amount through a notice published in the Federal Register.

Estimated Number of Awards: Focus Area A: 54. Focus Area B: 1.

Note: The Department is not bound by any estimates in this notice.

Project Period: Up to 60 months.

III. Eligibility Information

1. Eligible Applicants: SEAs; LEAs, including public charter schools that are considered LEAs under State law; IHEs; other public agencies; private nonprofit organizations; freely associated States and outlying areas; Indian Tribes or Tribal organizations; and for-profit organizations. Because the Bureau of Indian Affairs is not a State, it will not be eligible for a State grant under this priority.

With respect to Focus Area A of the priority, in order to provide SEAs with greater flexibility in how TA is delivered and ensure high-quality TA, individual States have the following options: (1) Participating as a member of a multi-State consortium; or (2) applying directly for funds as a single State. Therefore, eligible applicants for funds awarded under Focus Area A of this absolute priority may be an entity serving a multi-State consortium, or a single State.

Eligible applicants under Focus Area A are invited to submit single-State or consortium applications to provide deaf-blind TA services to individual States, as they have done in the past. If a State is included in more than one application as a member of a consortium or submits an individual State application, and more than one application is determined to be fundable for the State, the State will be given the option to choose the award (individual State or consortium) under which it will receive funding. A State may not be funded under multiple awards. The maximum level of funding for a consortium will reflect the combined total that the eligible entities comprising the consortium would have received if they had applied separately. For States within a consortium, each State must receive services consistent with its identified funding level.

2. Cost Sharing or Matching: This program does not require cost sharing or matching.

3. Subgrantees: Under 34 CFR 75.708(b) and (c) a grantee under this competition may award subgrants—to directly carry out project activities described in its application—to the following types of entities: IHEs and private nonprofit organizations suitable to carry out the activities proposed in the application. The grantee may award subgrants to entities it has identified in an approved application.

4. Other General Requirements: (a) Recipients of funding under this program must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: For information on how to submit an application please refer to our Common Instructions for Applicants to Department of Education Discretionary Grant Programs, published in the Federal Register on February 12, 2018 (83 FR 6003) and available at www.gpo.gov/fdsys/pkg/FR-2018-02-12/pdf/2018-02558.pdf.

2. Intergovernmental Review: This competition is subject to Executive Order 12372 and the regulations in 34 CFR part 79. However, under 34 CFR 79.8(a), we waive intergovernmental review in order to make awards by the end of FY 2018.

3. Funding Restrictions: We reference regulations outlining funding restrictions in the Applicable Regulations section of this notice.

4. Recommended Page Limit: The application narrative (Part III of the application) is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are as follows:

(a) Significance (30 points).

(1) The Secretary considers the significance of the proposed project.

(2) In determining the significance of the proposed project, the Secretary considers the following factors:

(i) The significance of the problem or issue to be addressed by the proposed project.

(ii) The extent to which the proposed project is likely to build local capacity to provide, improve, or expand services that address the needs of the target population.

(b) Quality of project services (30 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project are appropriate to the needs of the intended recipients or beneficiaries of those services.

(ii) The extent to which the goals, objectives, and outcomes to be achieved by the proposed project are clearly specified and measurable.

(iii) The extent to which the services to be provided by the proposed project reflect up-to-date knowledge from research and effective practice.

(iv) The extent to which the training or professional development services to be provided by the proposed project are of sufficient quality, intensity, and duration to lead to improvements in practice among the recipients of those services.

(v) The extent to which the technical assistance services to be provided by the proposed project involve the use of efficient strategies, including the use of technology, as appropriate, and the leveraging of non-project resources.

(c) Quality of the project evaluation (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation are appropriate to the context within which the project operates.

(d) Adequacy of resources (15 points).

(1) The Secretary considers the adequacy of resources for the proposed project.

(2) In determining the adequacy of resources for the proposed project, the Secretary considers the following factors:

(i) The qualifications, including relevant training and experience, of the project director or principal investigator.

(ii) The qualifications, including relevant training and experience, of key project personnel.

(iii) The qualifications, including relevant training and experience, of project consultants or subcontractors.

(iv) The extent to which the costs are reasonable in relation to the objectives, design, and potential significance of the proposed project.

(e) Quality of the management plan (10 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.205, before awarding grants under this competition the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: Under the Government Performance and Results Act of 1993, the Department has established a set of performance measures, including long-term measures, that are designed to yield information on various aspects of the effectiveness and quality of the Technical Assistance and Dissemination to Improve Services and Results for Children With Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful to improve educational or early intervention policy or practice.

• Program Performance Measure #4: The cost efficiency of the Technical Assistance and Dissemination Program includes the percentage of milestones achieved in the current annual performance report period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW, Room 5113, Potomac Center Plaza, Washington, DC 20202-2500. Telephone: (202) 245-7363. If you use a TDD or a TTY, call the FRS, toll free, at 1-800-877-8339.

Electronic Access to This Document: The official version of this document is the document published in the Federal Register. You may access the official edition of the Federal Register and the Code of Federal Regulations via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: August 16, 2018.
Johnny W. Collett,
Assistant Secretary for Special Education and Rehabilitative Services.

[FR Doc. 2018-18026 Filed 8-20-18; 8:45 am]

BILLING CODE 4000-01-P